DEPARTMENT OF ENERGY

Federal Energy Regulatory Commission

[Docket No. RP02-381-000]

Williston Basin Interstate Pipeline Company; Notice of Proposed Changes in FERC Gas Tariff

July 10, 2002.

Take notice that on July 1, 2002, Williston Basin Interstate Pipeline Company (Williston Basin), tendered for filing as part of its FERC Gas Tariff, Second Revised Volume No. 1, the revised tariff sheets listed in Appendix A to the filing, to become effective July 1, 2002.

Williston Basin states it is proposing to make certain tariff modifications which it believes are necessary to clarify its existing Tariff. Two types of changes are included in the filing. First, Williston Basin has included language in its Tariff to reflect the fact that forms are available on its Interactive Web site (Web site) at ebb.wbip.com, to assist its shippers in conducting business on Williston Basin's system. Second, Williston Basin has proposed modifications to its Tariff to reflect other miscellaneous changes. These modifications clarify Williston Basin's existing Tariff and have no rate impact.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-17815 Filed 7-15-02; 8:45 am]

BILLING CODE 6717-01-P